NUCLEAR REGULATORY COMMISSION

Advisory Committee on the Medical Uses of Isotopes: Meeting Notice

AGENCY: U.S. Nuclear Regulatory Commission.

ACTION: Updated notice of meeting.

SUMMARY: The U.S. Nuclear Regulatory Commission will convene a meeting of the Advisory Committee on the Medical Uses of Isotopes (ACMUI) on April 20 and 21, 2005. Although the dates of the ACMUI public meeting remain April 20 and 21, as originally published in the February 28, 2005 notice (see 70 FR 9611), this notice is meant to alert interested parties that the time for the ACMUI's briefing to the Commission has changed. See heading below entitled “Date and Time for Commission Briefing” for details. A sample of agenda items to be discussed during the public sessions includes: (1) Status of Rulemaking: Pt. 35 Training and Experience; (2) Status and Update: Redefining Medical Events; (3) Case Experience in Using I-125 Seeds as Markers; (4) FDA Radiation Dose Limits for Human Research Subjects Using Certain Radiolabeled Drugs, and (5) Establishing Guidance on Exceeding Dose Limits for Members of the Public who would serve as Caregivers to Persons undergoing Radiopharmaceutical Therapy. To review the agenda, see http://www.nrc.gov/reading-rm/doc-collections/acmui/agenda/ or contact arm@nrc.gov.

Purpose: Discuss issues related to 10 CFR 35, Medical Use of Byproduct Material.

Date and Time for Closed Session Meeting: April 21, 2005, from 8 a.m. to 10 a.m. This session will be closed so that NRC staff can brief the ACMUI on sensitive information regarding protective security measures, and so that the ACMUI can discuss internal personnel matters.

Dates and Times for Public Meetings: April 20, 2005, from 8 a.m. to 5 p.m.; and April 21, 2005, from 10 a.m. to 5 p.m.

Address for Public Meetings: Bethesda North Marriott Hotel, 5701 Marinelli Road, North Bethesda, MD 20552-2785.

Date and Time for Commission Briefing: April 20, 2005, from 3:15 to 4:45 p.m.

FOR FURTHER INFORMATION CONTACT: Angela R. McIntosh, telephone (301) 415-5030; e-mail arw@nrc.gov of the Office of Nuclear Material Safety and Safeguards, U.S. Nuclear Regulatory Commission, Washington, DC 20555-0001.

Conduct of the Meeting

Leon S. Malmud, M.D., will chair the meeting. Dr. Malmud will conduct the meeting in a manner that will facilitate the orderly conduct of business. The following procedures apply to public participation in the meeting:

1. Persons who wish to provide a written statement should submit a reproducible copy to Angela R. McIntosh, U.S. Nuclear Regulatory Commission, Two White Flint North, Mail Stop T8F5, 11545 Rockville Pike, Rockville, MD 20852-2738. Submittals must be postmarked by April 1, 2005, and must pertain to the topics on the agenda for the meeting.

2. Questions from members of the public will be permitted during the meeting, at the discretion of the Chairman.

3. The transcript and written comments will be available for inspection on NRC's Web site (www.nrc.gov) and at the NRC Public Document Room, 11555 Rockville Pike, Rockville, MD 20852-2738, telephone (800) 397-4209, on or about July 20, 2005. This meeting will be held in accordance with the Atomic Energy Act of 1954, as amended (primarily Section 161a); the Federal Advisory Committee Act (5 U.S.C. App); and the Commission's regulations in Title 10, U.S. Code of Federal Regulations, Part 7.

4. Attendees are requested to notify Angela R. McIntosh at (301) 415-5030 of their planned attendance if special services, such as for the hearing impaired, are necessary.

Dated at Rockville, Maryland, this 12th day of April, 2005.
For the Nuclear Regulatory Commission.
Andrew L. Bates,
Advisory Committee Management Officer.

[FR Doc. 05-7655 Filed 4-17-05; 8:45 am]

BILLING CODE 7590-01-P